DEPARTMENT OF LABOR

Occupational Safety and Health Administration

[Docket No. NRTL-1-93]

Wyle Laboratories, Inc.; Renewal of Recognition

AGENCY: Occupational Safety and Health Administration (OSHA), Labor.

ACTION: Notice.

SUMMARY: This notice announces the Agency's final decision on the application of Wyle Laboratories, Inc. (Wyle), for renewal of its recognition as a Nationally Recognized Testing Laboratory (NRTL) under 29 CFR 1910.7.

EFFECTIVE DATE: This recognition becomes effective on June 28, 2000 and will be valid until June 28, 2005, unless terminated or modified prior to that date, in accordance with 29 CFR 1910.7.

FOR FURTHER INFORMATION CONTACT: Bernard Pasquet, Office of Technical Programs and Coordination Activities, NRTL Program, Occupational Safety and Health Administration, U.S. Department of Labor, 200 Constitution Avenue, NW, Room N3653, Washington, D.C. 20210, or phone (202) 693-2110.

SUPPLEMENTARY INFORMATION:

Notice of Final Decision

The Occupational Safety and Health Administration (OSHA) hereby gives notice of the renewal of recognition of Wyle Laboratories, Inc. (Wyle), as a Nationally Recognized Testing Laboratory (NRTL). Wyle's renewal covers its existing scope of recognition.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, OSHA can accept products “properly certified” by the NRTL. OSHA processes applications related to an NRTL's recognition following requirements in Appendix A to 29 CFR 1910.7. This appendix requires that the Agency publish this public notice of its final decision on an application.

When Wyle received recognition as an NRTL, it was part of Wyle Laboratories, a publicly-held corporation first established in 1949. In 1995, Wyle informed OSHA (see Exhibit 13) that it had become a “privately held company incorporated in the State of Delaware.” The “new” company name was also “Wyle Laboratories.” In 1997, the NRTL informed OSHA of the sale of its “Electronic Enclosures Division” and requested that OSHA remove a condition that the Agency had imposed in the notice of Wyle's initial recognition. The condition had excluded from the recognition any testing and certification of an “enclosure cabinet manufactured or distributed by Wyle.” OSHA granted this request on January 16, 1998 (63 FR 2700).

Wyle received its recognition as an NRTL on July 22, 1994 (59 FR 37509), for a period of five years ending July 24, 1999. Appendix A to 29 CFR 1910.7 stipulates that the period of recognition of an NRTL is five years and that an NRTL may renew its recognition by applying not less than nine months, nor more than one year, before the expiration date of its current recognition. Wyle applied for a renewal of its recognition on August 19, 1998 (see Exhibit 15), within the time allotted, and retains its recognition pending OSHA's final decision in this renewal process.

In its letter of August 19, Wyle requested renewal for its existing scope of recognition, which includes the facility listed below, 122 test standards, and 8 supplemental programs. However, some of the test standards for which Wyle is currently recognized have been withdrawn by the standards developing organization. These standards are UL 465, UL 547, UL 1025, UL 1096, and UL 1624. As appropriate, OSHA has eliminated or replaced these test standards in the list included in the preliminary notice and in the list shown below.

OSHA published the required notice in the Federal Register (65 FR 11804, 03/06/2000) to announce Wyle's renewal request. The notice included a preliminary finding that Wyle could meet the requirements for expansion of its recognition, subject to the condition mentioned above, and OSHA invited public comment on the application by May 5, 2000. OSHA received no comments concerning this application.

In processing Wyle's request, OSHA performed an on-site assessment (review) of Wyle's facility in Huntsville, Alabama, on August 3-5, 1999. In the final report of the on-site review (see Exhibit 16), the assessor recommended the renewal of Wyle's recognition.

The most recent notice that OSHA published for Wyle's recognition concerned the removal of the condition mentioned above. A chronology of the previous notices that OSHA published for Wyle is as follows: an expansion of recognition for additional test standards and programs, which OSHA announced on July 12, 1996 (61 FR 36764) and granted on November 20, 1996 (61 FR 59115); and Wyle's initial recognition, which OSHA announced on January 6, 1994 (59 FR 783) and granted as specified above. The renewal would incorporate all recognitions granted to Wyle through the date of publication of the March 6 notice of preliminary finding.

You may obtain or review copies of all public documents pertaining to the application by contacting the Docket Office, Occupational Safety and Health Administration, U.S. Department of Labor, 200 Constitution Avenue, NW, Room N2625, Washington, D.C. 20210, telephone: (202) 693-2350. You should refer to Docket No. NRTL-1-93, the permanent records of public information on the Wyle recognition.

The current address of the Wyle facility recognized by OSHA is: Wyle Laboratories, 7800 Highway 20 West, P.O. Box 077777, Huntsville, Alabama 35807.

Final Decision and Order

The NRTL Program staff has examined Wyle's request, the on-site review report, and other pertinent information. Based upon this examination, OSHA finds that Wyle Laboratories, Inc., has met the requirements of 29 CFR 1910.7 for renewal of its recognition, listed below, subject to the limitations and conditions. Pursuant to the authority in 29 CFR 1910.7, OSHA hereby renews the recognition of Wyle, subject to these limitations and conditions.

Limitations

OSHA hereby renews the recognition of Wyle for testing and certification of products to demonstrate conformance to the 139 additional test standards listed below. The NRTL Program staff has determined that each test standard meets the requirements for an appropriate test standard, within the meaning of 29 CFR 1910.7(c). The staff makes such determinations in processing applications requests from any NRTL.

The Agency's recognition of Wyle, or any NRTL, for a particular test standard is always limited to equipment or materials (products) for which OSHA standards require third party testing and certification before use in the workplace. As a result, OSHA's recognition of an NRTL for a test standard excludes any product(s), falling within the scope of the test standard, for which OSHA has no such requirements.

UL 8 Foam Fire Extinguishers

UL 20 General-Use Snap Switches

UL 22 Amusement and Gaming Machines

UL 44 Rubber-Insulated Wires and Cables

UL 45 Portable Electric Tools

UL 48 Electric Signs

UL 62 Flexible Cord and Fixture Wire

UL 65 Wired Cabinets

UL 67 Panelboards

UL 73 Motor-Operated Appliances

UL 83 Thermoplastic-Insulated Wires and Cables

UL 92 Fire Extinguisher and Booster Hose

UL 98 Enclosed and Dead-Front Switches

UL 153 Portable Electric Lamps

UL 154 Carbon-Dioxide Fire Extinguishers

UL 187 X-Ray Equipment

UL 198B Class H Fuses

UL 198C High-Interrupting-Capacity Fuses, Current-Limiting Types

UL 198D Class K Fuses

UL 198E Class R Fuses

UL 198F Plug Fuses

UL 198G Fuse for Supplementary Overcurrent Protection

UL 198H Class T Fuses

UL 198L DC Fuses for Industrial Use

UL 244A Solid-State Controls for Appliances

UL 299 Dry Chemical Fire Extinguishers

UL 363 Knife Switches

UL 393 Indicating Pressure Gauges for Fire-Protection Service

UL 429 Electrically Operated Valves

UL 444 Communications Cables

UL 466 Electric Scales

UL 467 Grounding and Bonding Equipment

UL 484 Room Air Conditioners

UL 486B Wire Connectors for Use With Aluminum Conductors

UL 486C Splicing Wire Connectors

UL 486D Insulated Wire Connectors for Use With Underground Conductors

UL 489 Molded-Case Circuit Breakers and Circuit-Breaker Enclosures

UL 497A Secondary Protectors for Communication Circuits

UL 498 Attachment Plugs and Receptacles

UL 499 Electric Heating Appliances

UL 506 Specialty Transformers

UL 507 Electric Fans

UL 508 Industrial Control Equipment

UL 510 Insulating Tape

UL 512 Fuseholders

UL 539 Single and Multiple Station Heat Detectors

UL 541 Refrigerated Vending Machines

UL 544 Electric Medical and Dental Equipment

UL 626 2½ Gallon Stored-Pressure Water-Type Fire Extinguishers

UL 698 Industrial Control Equipment for Use in Hazardous (Classified) Locations

UL 711 Rating and Fire Testing of Fire Extinguishers

UL 745-1 Portable Electric Tools

UL 745-2-1 Particular Requirements of Drills

UL 745-2-2 Particular Requirements for Screwdrivers and Impact Wrenches

UL 745-2-3 Particular Requirements for Grinders, Polishers, and Disk-Type Sanders

UL 745-2-4 Particular Requirements for Sanders

UL 745-2-5 Particular Requirements for Circular Saws and Circular Knives

UL 745-2-6 Particular Requirements for Hammers

UL 745-2-8 Particular Requirements for Shears and Nibblers

UL 745-2-9 Particular Requirements for Tappers

UL 745-2-11 Particular Requirements for Reciprocating Saws

UL 745-2-12 Particular Requirements for Concrete Vibrators

UL 745-2-14 Particular Requirements for Planers

UL 745-2-17 Particular Requirements for Routers and Trimmers

UL 745-2-30 Particular Requirements for Staplers

UL 745-2-31 Particular Requirements for Diamond Core Drills

UL 745-2-32 Particular Requirements for Magnetic Drill Presses

UL 745-2-33 Particular Requirements for Portable Bandsaws

UL 745-2-34 Particular Requirements for Strapping Tools

UL 745-2-35 Particular Requirements for Drain Cleaners

UL 745-2-36 Particular Requirements for Hand Motor Tools

UL 745-2-37 Particular Requirements for Plate Jointers

UL 796 Printed-Wiring Boards

UL 813 Commercial Audio Equipment

UL 817 Cord Sets and Power-Supply Cords

UL 845 Motor Control Centers

UL 854 Service-Entrance Cables

UL 863 Time-Indicating and -Recording Appliances

UL 877 Circuit Breakers and Circuit-Breaker Enclosure for Use in Hazardous (Classified) Locations

UL 894 Switches for Use in Hazardous (Classified) Locations

UL 916 Energy Management Equipment

UL 917 Clock-Operated Switches

UL 924 Emergency Lighting and Power Equipment

UL 943 Ground-Fault Circuit-Interrupters

UL 961 Electric Hobby and Sports Equipment

UL 977 Fused Power-Circuit Devices

UL 998 Humidifiers

UL 1004 Electric Motors

UL 1008 Automatic Transfer Switches

UL 1012 Power Supplies

UL 1018 Electric Aquarium Equipment

UL 1022 Line Isolation Monitors

UL 1028 Hair Clipping and Shaving Appliances

UL 1047 Isolated Power Systems Equipment

UL 1053 Ground-Fault Sensing and Relaying Equipment

UL 1054 Special-Use Switches

UL 1058 Halogenated Agent Extinguishing System Units

UL 1059 Terminal Blocks

UL 1066 Low-Voltage AC and DC Power Circuit Breakers Used in Enclosures

UL 1069 Hospital Signaling and Nurse-Call Equipment

UL 1077 Supplementary Protectors for Use in Electrical Equipment

UL 1087 Molded-Case Switches

UL 1091 Butterfly Valves for Fire-Protection Service

UL 1093 Halogenated Agent Fire Extinguishers

UL 1097 Double Insulation Systems for Use in Electrical Equipment

UL 1236 Battery Chargers

UL 1244 Electrical and Electronic Measuring and Testing Equipment

UL 1254 Pre-Engineered Dry Chemical Extinguishing Systems Units

UL 1262 Laboratory Equipment

UL 1283 Electromagnetic Interference Filters

UL 1310 Class 2 Power Units

UL 1411 Transformers and Motor Transformer for Use in Audio-, Radio-, and Television-Type Appliances

UL 1412 Fusing Resistors and Temperature-Limited Resistors for Radio-and Television-Type Appliances

UL 1416 Overcurrent and Overtemperature Protectors for Radio-and Television-Type Appliances

UL 1424 Cables for Power-Limited Fire-Alarm Circuits

UL 1429 Pullout Switches

UL 1437 Electrical Analog Instruments-Panel Board Types

UL 1449 Transient Voltage Surge Suppressors

UL 1459 Telephone Equipment

UL 1474 Adjustable Drop Nipples for Sprinkler Systems

UL 1481 Power Supplies for Fire-Protective Signaling Systems

UL 1486 Quick Opening Devices for Dry Pipe Valves for Fire-Protection Service

UL 1557 Electrically Isolated Semiconductor Devices

UL 1564 Industrial Battery Chargers

UL 1570 Fluorescent Lighting Fixtures

UL 1571 Incandescent Lighting Fixtures

UL 1577 Optical Isolators

UL 1585 Class 2 and Class 3 Transformers

UL 1604 Electrical Equipment for Use in Class I and II, Division 2, and Class III Hazardous (Classified) Locations

UL 1664 Immersion-Detection Circuit-Interrupters

UL 1673 Electric Space Heating Cables

UL 1682 Plugs, Receptacles, and Cable Connectors, of the Pin and Sleeve Type

UL 1778 Uninterruptible Power Supply Equipment

UL 1863 Communication Circuit Accessories

UL 1876 Isolating Signal and Feedback Transformers for Use in Electronic Equipment

UL 1950 Information Technology Equipment, Including Electrical Business Equipment

UL 1995 Heating and Cooling Equipment

UL 2006 Halon 1211 Recovery/Recharge Equipment

UL 2111 Overheating Protection for Motors

For convenience in compiling the list, we generally show the name (i.e., designation and title) used by the standards developing organization (SDO), although many of these standards have been approved as American National Standards by the American National Standards Institute (ANSI). For example, the ANSI designation for UL 22 is ANSI/UL 22. Under our procedures, an NRTL that OSHA has approved for a particular test standard may use either the latest proprietary version of the test standard or the latest ANSI version of that standard, regardless of whether it is currently recognized for the proprietary or ANSI version. Contact ANSI or visit the ANSI web site to find out whether or not a standard is currently ANSI approved.

None of the above standards had been withdrawn by the standards developing organization (SDO) at the time of the preparation of the notice of preliminary finding.

Programs and Procedures

Wyle also requested continued use of the supplemental programs listed below, based upon the criteria detailed in the March 9, 1995 Federal Register notice (60 FR 12980, 3/9/95). This notice lists nine (9) programs and procedures (collectively, programs), eight of which (called supplemental programs) an NRTL may use to control and audit, but not actually to generate, the data relied upon for product certification. An NRTL's initial recognition will always include the first or basic program, which requires that all product testing and evaluation be performed in-house by the NRTL that will certify the product. OSHA previously granted Wyle recognition to use these programs, which are listed in OSHA's informational web page on the Wyle recognition.

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 7: Acceptance of continued certification following minor modifications by the client.

Program 8: Acceptance of product evaluations from organizations that function as part of the International Electrotechnical Commission Certification Body (IEC-CB) Scheme.

Program 9: Acceptance of services other than testing or evaluation performed by subcontractors or agents.

OSHA developed the program descriptions to limit how an NRTL may perform certain aspects of its work and to accept the activities covered under a program only when the NRTL meets certain criteria. In this sense, they are special conditions that the Agency places on an NRTL's recognition. OSHA does not consider these programs in determining whether an NRTL meets the requirements for recognition under 29 CFR 1910.7. However, OSHA does treat these programs as one of the three elements that defines an NRTL's scope of recognition.

Conditions

Wyle Laboratories, Inc., must also abide by the following conditions of the recognition, in addition to those already required by 29 CFR 1910.7:

OSHA must be allowed access to the Wyle facilities and records for purposes of ascertaining continuing compliance with the terms of its recognition and to investigate as OSHA deems necessary;

If Wyle has reason to doubt the efficacy of any test standard it is using under this program, it must promptly inform the organization that developed the test standard of this fact and provide that organization with appropriate relevant information upon which its concerns are based;

Wyle must not engage in or permit others to engage in any misrepresentation of the scope or conditions of its recognition. As part of this condition, Wyle agrees that it will allow no representation that it is either a recognized or an accredited Nationally Recognized Testing Laboratory (NRTL) without clearly indicating the specific equipment or material to which this recognition is tied, or that its recognition is limited to certain products;

Wyle must inform OSHA as soon as possible, in writing, of any change of ownership, facilities, or key personnel, and of any major changes in its operations as an NRTL, including details;

Wyle will continue to meet all the terms of its recognition and will always comply with all OSHA policies pertaining to this recognition;

Wyle will continue to meet the requirements for recognition in all areas where it has been recognized; and

Wyle will always cooperate with OSHA to assure compliance with the spirit as well as the letter of its recognition and 29 CFR 1910.7.

Signed at Washington, D.C. this 20th day of June, 2000.
Charles N. Jeffress,
Assistant Secretary.

[FR Doc. 00-16318 Filed 6-27-00; 8:45 am]

BILLING CODE 4510-26-P